DEPARTMENT OF DEFENSE

Department of the Navy

Notice of Intent To Grant Exclusive Patent License; Jen-Jr. “Vincent” Gau

AGENCY: Department of the Navy, DOD.

ACTION: Notice.

SUMMARY: The Department of the Navy hereby gives notice of it's intent to grant to Jen-Jr. “Vincent” Gau, a revocable, nonassignable, exclusive license in the United States to practice the Government-owned invention described in U.S. Patent Application No. 09/848,727 entitled “A Biological Identification System with Integrated Sensor Chip”.

DATES: Anyone wishing to object to the granting of this license has (15) days from the date of this notice to file written objections along with supporting evidence, if any.

ADDRESSES: Written objections are to be filed with the Office of Patent Counsel, Space and Naval Warfare Systems Center, Code 20012, 53510 Silvergate Ave., Room 103, San Diego, CA 92152-5765.

FOR FURTHER INFORMATION CONTACT: Mr. James A. Ward, Space and Naval Warfare Systems Center, Code 20012, 53510 Silvergate Ave., Room 103, San Diego, CA 92152-5765, telephone (619) 553-3823.

(Authority: 35 U.S.C. 207, 37 CFR part 404.)
Dated: September 18, 2002.
R.E. Vincent II,
Lieutenant Commander, Judge Advocate General's Corps, U.S. Navy, Federal Register Liaison Officer.

[FR Doc. 02-24581 Filed 9-26-02; 8:45 am]

BILLING CODE 3810-FF-P